DEPARTMENT OF THE INTERIOR

Fish and Wildlife Service

Proposed Monitoring Plan for American Peregrine Falcons in the United States

AGENCY: Fish and Wildlife Service, Interior.

ACTION: Notice; reopening of comment period.

SUMMARY: We, the U.S. Fish and Wildlife Service (Service), provide notice that the public comment period is reopened for the Proposed Monitoring Plan (Plan) for American peregrine falcons in the United States. We are reopening the comment period for an additional 30 days to provide additional time for interested parties to submit written comments on the Plan.

DATES: The comment period, which originally closed on August 30, 2001, now closes on October 29, 2001.

ADDRESSES: Written comments and other information concerning the proposed American peregrine falcon monitoring plan should be sent to Robert Mesta, Sonoran Joint Venture Coordinator, Office of Migratory Birds, U.S. Fish and Wildlife Service, 12661 E. Broadway Blvd., Tucson, Arizona 85748 (facsimile (520) 258-7238, phone (520) 258-7227). Comments and materials received will be available for public inspection, by appointment, during normal business hours at the above address. A copy of the proposed Plan is available upon request from Robert Mesta at (520) 258-7227, or the Chief, Division of Consultation, Habitat Conservation Planning, Recovery, and State Grants at (703) 358-2061. The proposed Plan is also available through the internet at (http://endangered.fws.gov/recovery/docs/peregrine—monitoring.pdf.

SUPPLEMENTARY INFORMATION:

Background

Section 4(g)(1) of the Endangered Species Act of 1973, as amended (16 U.S.C. 1531 et seq.) (ESA), requires that we implement a system, in cooperation with the States, to effectively monitor for not less than 5 years, the status of all species that have been recovered and removed from the List of Endangered and Threatened Species. Following its recovery, the American peregrine falcon was removed from the List of Endangered and Threatened Species on August 25, 1999. On July 31, 2001, the Service published a Notice of availability for the proposed monitoring plan that announced a 30-day public comment period (66 FR 39523). In order to meet the ESA's monitoring requirement and to facilitate the efficient collection of data, a sampling method capable of assessing the population status of the American peregrine falcon (Falco peregrinus anatum) will be implemented.

The proposed Plan was developed in cooperation with State resource agencies, recovery team members, and interested scientists, and will be carried out in collaboration with Federal, State, and private cooperators. Implementation of the Plan will begin in the spring of 2002. Surveys will be conducted every 3 years for a total of 5 surveys. Monitoring will include the collection of information on the population trend and nesting success. At the end of each triennial monitoring period, we will review all available information to determine the status of the American peregrine falcon.

Pursuant to 50 CFR 424.16(c)(2), the Service may extend or reopen a comment period upon finding that there is good cause to do so. Full participation of the affected public in the review of the Plan is deemed as sufficient cause.

Public Comments Solicited

The previous comment period on this proposal closed on August 30, 2001. With the publication of this notice, we reopen the public comment period. Written comments may now be submitted until October 29, 2001, to the Service office in the ADDRESSES section.

Authority

The authority for this action is the Endangered Species Act of 1973, as amended (16 U.S.C. 1531 et seq.).

Dated: September 12, 2001.
David B. Allen,
Acting Director.

[FR Doc. 01-24134 Filed 9-26-01; 8:45 am]

BILLING CODE 4310-55-P